FEDERAL RETIREMENT THRIFT INVESTMENT BOARD

Notice of Board Meeting

DATES: October 22, 2024 at 10 a.m. eastern daylight time (EDT).

ADDRESSES: Telephonic. Dial-in (listen only) information: Number: 1-202-599-1426, Code: 828 801 968 #; or via web: https://www.frtib.gov/.

FOR FURTHER INFORMATION CONTACT: Kimberly Weaver, Director, Office of External Affairs, (202) 942-1640.

SUPPLEMENTARY INFORMATION: Board Meeting Agenda.

Open Session

1. Approval of the September 24, 2024, Board Meeting Minutes

2. Monthly Reports

(a) Participant Report

(b) Legislative Report

3. Quarterly Reports

(c) Investment Review

(d) Audit Status

(e) Budget Review

4. Internal Audit Update

5. OEA Annual Presentation

6. Social Science Update

Closed Session

7. Information covered under 5 U.S.C. 552b(c)(6), (c)(9)(B), and (c)(10).

Authority: 5 U.S.C. 552b(e)(1).

Dated: October 9, 2024.
Dharmesh Vashee,
General Counsel, Federal Retirement Thrift Investment Board.

[FR Doc. 2024-23779 Filed 10-11-24; 8:45 am]

BILLING CODE P